DEPARTMENT OF AGRICULTURE

Animal and Plant Health Inspection Service

[Docket No. APHIS-2013-0105]

Notice of Availability of Evaluations of the Foot-and-Mouth Disease and Rinderpest Status of a Region of Patagonia, Argentina

AGENCY: Animal and Plant Health Inspection Service, USDA.

ACTION: Notice of availability; extension of comment period.

SUMMARY: We are extending the comment period for our notice that announced our determination that a region of Argentina, consisting of the areas of Patagonia South and Patagonia North B, is free of foot-and-mouth disease. In that notice we also announced the availability of an evaluation assessing the rinderpest status of South America, which includes Argentina, and our determination, based on our evaluation, that rinderpest is not present in the entirety of Argentina. This action will allow interested persons additional time to prepare and submit comments.

DATES: The comment period for the notice published on January 23, 2014 (79 FR 3775) is extended. We will consider all comments that we receive on or before April 23, 2014.

ADDRESSES: You may submit comments by either of the following methods:

• Federal eRulemaking Portal: Go to http://www.regulations.gov/#!documentDetail;D=APHIS-2013-0105-0001.

• Postal Mail/Commercial Delivery: Send your comment to Docket No. APHIS-2013-0105, Regulatory Analysis and Development, PPD, APHIS, Station 3A-03.8, 4700 River Road Unit 118, Riverdale, MD 20737-1238.

Supporting documents and any comments we receive on this docket may be viewed at http://www.regulations.gov/#!docketDetail;D=APHIS-2013-0105 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Silvia Kreindel, Senior Staff Veterinarian, Regionalization Evaluation Services, National Import Export Services, VS, APHIS, 4700 River Road Unit 38, Riverdale, MD 20737-1231; (301) 851-3308.

SUPPLEMENTARY INFORMATION: On January 23, 2014, we published in the Federal Register (79 FR 3775-3777, Docket No. APHIS-2013-0105) a notice announcing the availability of our evaluation of the foot-and-mouth disease status of a region of Argentina, consisting of the areas of Patagonia South and Patagonia North B, as well as an evaluation assessing the rinderpest status of South America, for public review and comment.

Comments on the notice were required to be received on or before March 24, 2014. We are extending the comment period on Docket No. APHIS-2013-0105 for an additional 30 days. This action will allow interested persons additional time to prepare and submit comments.

Authority: 7 U.S.C. 450, 7701-7772, 7781-7786, and 8301-8317; 21 U.S.C. 136 and 136a; 31 U.S.C. 9701; 7 CFR 2.22, 2.80, and 371.4.

Done in Washington, DC, this 19th day of March 2014.
Kevin Shea,
Administrator, Animal and Plant Health Inspection Service.

[FR Doc. 2014-06358 Filed 3-21-14; 8:45 am]

BILLING CODE 3410-34-P